DEPARTMENT OF AGRICULTURE

Forest Service

Information Collection: Forest Service Pilot and Aircraft Record Forms

AGENCY: Forest Service, USDA.

ACTION: Notice; request for comment.

SUMMARY: In accordance with the Paperwork Reduction Act of 1995, the USDA Forest Service is seeking comments from all interested individuals and organizations on the renewal with revisions of a currently approved information collection, Forest Service Pilot and Aircraft Record Forms.

DATES: Comments must be received in writing on or before September 20, 2021 to be assured of consideration. Comments received after that date will be considered to the extent practicable.

ADDRESSES: Commenters are encouraged to submit comments by email, if possible. You may submit comments by any of the following methods:

• Email: paul.linse@usda.gov.

• Telephone: 202-557-1545.

• Mail: Paul Linse, Assistant Director Aviation, Fire and Aviation Management, USDA Forest Service, 1400 Independence Avenue SW, Mailstop 1107, Washington, DC 20250-1107.

• Facsimile: 208-387-5735.

• Hand Delivery/Courier: Paul Linse, Assistant Director Aviation, USDA Forest Service, Fire and Aviation Management, 1400 Independence Avenue SW, Mailstop 1107, Washington, DC 20250-1107.

The public may inspect comments received at USDA Forest Service, Fire and Aviation Management, 1400 Independence Avenue SW, Washington, DC 20250, during normal business hours. Visitors are encouraged to call ahead to 202-205-1483 to facilitate entry into the building.

FOR FURTHER INFORMATION CONTACT: Paul Linse, Assistant Director Aviation, Fire and Aviation Management, 202-205-1483. Individuals who use telecommunication devices for the deaf (TDD) may call the Federal Relay Service (FRS) at 1-800-877-8339 twenty-four hours a day, every day of the year, including holidays.

SUPPLEMENTARY INFORMATION: Title: Forest Service Pilot and Aircraft Record Forms.

OMB Number: 0596-0015.

Expiration Date of Approval: February 28, 2022.

Type of Request: Renewal with revisions of a currently approved information collection.

Abstract: The Forest Service contracts with approximately 400 vendors a year for commercial aviation services utilized in resource protection and project management. In recent years, the total annual use of contract aircraft and pilots has exceeded 80,000 hours. In order to maintain an acceptable level of safety, preparedness, and cost-effectiveness in aviation operations, Forest Service contracts include rigorous qualifications for pilots and specific condition, equipment, and performance requirements for aircraft as aviation operations are conducted under extremely adverse conditions of weather, terrain, turbulence, smoke reduced visibility, minimally improved landing areas, and congested airspace around wildfires. To ensure pilots and aircraft used for aviation operations meet specific Forest Service qualifications and requirements for aviation operations, prospective contract pilots complete one of the following Forest Service forms:

• FS-5700-20—Airplane Pilot Qualifications and Approval Record

• FS-5700-20a—Helicopter Pilot Qualifications and Approval Record

Agency Aircraft Inspectors use the following forms when inspecting aircraft for contract compliance:

• FS-5700-21—Airplane Data Record

• FS-5700-21a—Helicopter Data Record

Based upon approval(s) documented on the form(s), each contractor pilot and aircraft receive an approval card. Forest Service personnel verify possession of properly approved cards before using contracted pilots and aircraft.

Information collected on pilot forms includes:

• Name.

• Address.

• Certification numbers.

• Employment history.

• Medical Certification.

• Airplane/helicopter certifications and specifications.

• Accident/violation history.

Without the collected information, Forest Service Pilot and Aircraft Inspectors and Forest Service Contracting Officers cannot determine whether contracted pilots and aircraft meet detailed qualification, equipment, and condition requirements essential to safe and effective accomplishment of Forest Service-specified flying missions. Without a reasonable basis to determine pilot qualifications and aircraft capability, Forest Service employees would be exposed to hazardous conditions. Data collected documents approval of contract pilots and aircraft for specific Forest Service aviation special missions. Information will be collected and reviewed by Pilot and Aircraft Inspectors to determine whether aircraft and/or pilot(s) meet all agency requirements in accordance with Forest Service Handbook (FSH) 5709.16, chapter 10, sections 15 and 16. Forest Service pilot and aircraft inspectors maintain collected information in Forest Service regional and national offices. The Forest Service, at times, shares the information with the Department of the Interior, Office of Aviation Services, as each organization accepts contract inspections conducted by the other.

Estimate of Annual Burden: 60 minutes.

Type of Respondents: Vendors/Contractors.

Estimated Annual Number of Respondents: 2,100.

Estimated Annual Number of Responses per Respondent: 1.

Estimated Total Annual Burden on Respondents: 2,100 hours.

Comment Is Invited: Comment is invited on: (1) Whether this collection of information is necessary for the stated purposes and proper performance of Agency functions, including whether the information will have practical or scientific utility; (2) accuracy of the Agency's estimate of the burden of the collection of information, including validity of the methodology and assumptions used; (3) ways to enhance the quality, utility, and clarity of information to be collected; and (4) ways to minimize the burden of the collection of information on respondents, including use of automated, electronic, mechanical, or other technological collection techniques or other forms of information technology.

All comments received in response to this notice, including names and addresses when provided, will be a matter of public record. Comments will be summarized and included in the submission request toward Office of Management and Budget approval.

Jaelith Rivera,
Acting Deputy Chief, State & Private Forestry.

[FR Doc. 2021-15347 Filed 7-19-21; 8:45 am]

BILLING CODE 3411-15-P